DEPARTMENT OF HEALTH AND HUMAN SERVICES

Centers for Disease Control and Prevention

[30Day-21-21DJ]

Agency Forms Undergoing Paperwork Reduction Act Review

In accordance with the Paperwork Reduction Act of 1995, the Centers for Disease Control and Prevention (CDC) has submitted the information collection request titled Assessment of a Training Program to Improve Continuity of Care for Children and Families Affected by Fetal Alcohol Spectrum Disorders (FASD) to the Office of Management and Budget (OMB) for review and approval. CDC previously published a “Proposed Data Collection Submitted for Public Comment and Recommendations” notice on March 8, 2021 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Assessment of a Training Program to Improve Continuity of Care for Children and Families Affected by Fetal Alcohol Spectrum Disorders (FASD)—New—National Center on Birth Defects and Developmental Disabilities (NCBDDD), Centers for Disease Control and Prevention (CDC).

Background and Brief Description

The purpose of this information collection is to assess a curriculum for training pediatric residents to identify, refer and care for children with prenatal exposure to alcohol or a fetal alcohol spectrum disorder (FASD). The curriculum was developed by the American Academy of Pediatrics (AAP) with support from CDC. The curriculum uses a Train-the-Trainer model whereby attending physicians at developmental continuity clinics receive in-depth training and then facilitate training of first-year pediatric residents in their own clinics.

In Phase One, training for attending physicians will be organized around four presentations by experts in the identification, diagnosis, and care of children with FASD and their families. Pre/post-test assessments will be obtained for each presentation, followed by an overall assessment at the end of the training day.

In Phase Two, the attending physicians will implement a curriculum of continuing medical education activities with their first-year pediatric residents. Required activities for residents include viewing three pre-recorded video presentations. Changes in residents' knowledge of training content will be assessed both before and after the video presentations.

Pre/post-test data will be collected through paper-and-pencil surveys for in-person training of attending physicians, and by secure email for resident trainees. Attending physicians will also be asked to participate in a final project debriefing conference call.

The purpose and use of the assessment data will be to assure that specific information in the FASD training curriculum is conveyed and understood by participants. The public health goal is to strengthen the identification, referral, and care of children with prenatal exposure to alcohol.

OMB approval is requested for three years. Approximately 10 clinics will be recruited each year. Respondents will be one attending physician per clinic, and approximately 25 pediatric residents per clinic. Participation is voluntary and there are no costs to respondents other than their time. The total estimated annualized burden is 223 hours.

Estimated Annualized Burden Hours
Type of respondent | Form name | Number of respondents | Number of responses per respondent | Avg. burden per response (in hours)
Pediatrician (Attending Physician) | Attending Physicians Screening & Diagnosis Pretest | 10 | 1 | 10/60
| Attending Physicians Screening & Diagnosis Posttest | 10 | 1 | 10/60
| Attending Physicians Treatment Across Lifespan Pretest | 10 | 1 | 10/60
| Attending Physicians Treatment Across Lifespan Posttest | 10 | 1 | 10/60
| Attending Physicians Overcoming Social Attitudes Pretest | 10 | 1 | 10/60
| Attending Physicians Overcoming Social Attitudes Posttest | 10 | 1 | 10/60
| Attending Physicians Educational Care Pretest | 10 | 1 | 10/60
| Attending Physicians Educational Care Posttest | 10 | 1 | 10/60
| Attending Physicians Training Program Assessment | 10 | 1 | 15/60
| Attending Physicians Overall Program Assessment | 10 | 1 | 20/60
| Attending Physicians Debriefing Guide | 10 | 1 | 1
| Attending Physicians Application (A15) | 10 | 1 | 10/60
Pediatrician (Resident) | Resident Overall Effects & Prevalence Video Pretest | 250 | 1 | 15/60
| Resident Overall Effects & Prevalence Video Posttest | 250 | 1 | 15/60
| Resident Overall Program Assessment | 250 | 1 | 15/60

Jeffrey M. Zirger,
Lead, Information Collection Review Office, Office of Scientific Integrity, Office of Science, Centers for Disease Control and Prevention.

[FR Doc. 2021-15227 Filed 7-16-21; 8:45 am]

BILLING CODE 4163-18-P